DEPARTMENT OF HEALTH AND HUMAN SERVICES

Substance Abuse and Mental Health Services Administration

Center for Mental Health Services; Amendment of Meeting Notice

Pursuant to Public Law 92-463, notice is hereby given of an amendment of meeting status of the Substance Abuse and Mental Health Services Administration's (SAMHSA) Center for Mental Health Services (CMHS) National Advisory Council to be held on June 23, 10:00 a.m. to 12:00 p.m. via closed teleconference.

Public Notice was published in the Federal Register on June 16, 2014, Volume 79, Number 115, Page 34333, announcing that the Center for Mental Health Services' National Advisory Council would be convening an open teleconference on June 23, 2014 at SAMHSA Conference Center, 1 Choke Cherry Road, Rockville, MD 20857, for the purpose of discussions and evaluations of grant applications reviewed by SAMHSA's Initial Review Groups, and involve an examination of confidential financial and business information as well as personal information concerning the applicants. Therefore, this meeting will be closed to the public as determined by the SAMHSA Administrator, in accordance with Title 5 U.S.C. 552b(c)(4) and (6) and (c)(9)(B).

For additional information, contact the Council's Designated Federal Officer (DFO), Ms. Deborah DeMasse-Snell (see contact information below).

Committee Name: SAMHSA's Center for Mental Health Services National Advisory Council.

Date/Time/Type: June 23, 2014, 10:00 a.m.-12:00 p.m.

Place: SAMHSA Building, 1 Choke Cherry Road, Great Falls Room, Rockville, Maryland 20857.

Contact: Deborah DeMasse-Snell M.A. (Than), Designated Federal Official, SAMHSA CMHS National Advisory Council, 1 Choke Cherry Road, Room 6-1084, Rockville, Maryland 20857, Telephone: (240) 276-1861, Fax: (240) 276-1850, Email: Deborah.DeMasse-Snell@samhsa.hhs.gov.

Cathy J. Friedman,
Public Health Analyst, SAMHSA.

This notice is being published less than 15 days prior to the meeting due to the urgent need to meet timing limitations imposed by the review and funding cycle.

[FR Doc. 2014-14449 Filed 6-19-14; 8:45 am]

BILLING CODE 4162-20-P